DEPARTMENT OF HEALTH AND HUMAN SERVICES

Centers for Disease Control and Prevention

[Program Announcement 02076]

Expansion of HIV/AIDS/STD Surveillance, Care, and Prevention Activities in the Republic of Tanzania; Notice of Award of Funds

A. Purpose

The Centers for Disease Control and Prevention (CDC) announces the availability of fiscal year (FY) 2002 funds for a cooperative agreement program for the expansion of HIV/AIDS/STD surveillance, care, and prevention activities in the Republic of Tanzania.

The purpose of this cooperative agreement is to improve HIV/AIDS surveillance, care, and prevention capacity and activities in Tanzania. This will be accomplished by cooperation between CDC and the Ministry of Health National AIDS Control Program (MOH/NACP) of Tanzania. These collaborative activities could profoundly change the focus and activities of the Tanzania National AIDS Policy. Most importantly, having a better understanding of the association between specific behaviors, STDs, and HIV prevalence will likely improve AIDS control programs and prevention efforts in Tanzania and eventually throughout sub-Saharan Africa. The U.S. Government seeks to reduce the impact of HIV/AIDS in specific countries within sub-Saharan Africa, Asia, and the Americas through its Global AIDS Program (GAP). CDC has initiated its Global AIDS Program to strengthen capacity and expand activities in the areas of (1) HIV primary prevention; (2) HIV care, support, and treatment; and (3) capacity and infrastructure development, especially for surveillance. Targeted countries represent those with the most severe epidemics and the highest number of new infections. They also represent countries where the potential for impact is greatest and where U.S. government agencies are already active. Tanzania is one of these targeted countries.

CDC is working in a collaborative manner with national governments and other agencies to develop programs of assistance to address the HIV/AIDS epidemic in GAP countries. In particular, CDC's mission in Tanzania is to work with Tanzanian and international partners in discovering and applying effective interventions to prevent HIV infection and associated illness and death from AIDS.

Tanzania has approximately 31 million people. In 1997, NACP estimated that 2.4 million (8 percent) would be HIV-infected by the year 2000. In 1998, the MOH reported that the HIV seroprevalence of pregnant women in four sentinel districts ranged from 12 to 24 percent. Also for 1998, the MOH reported that HIV seroprevalence among male blood donors was 9 percent, while the rate was 12 percent among female donors. The Adult Morbidity and Mortality Project recently reported that HIV/AIDS and TB were the leading causes of death in 15 to 59 year-old men and women in three study areas. These statistics suggest the need for the expansion and improvement of a range of surveillance, care, and prevention activities and services.

Accurate surveillance is the mainstay of public health programs, providing essential information for focusing prevention activities, allocating resources, and monitoring effectiveness of programs. Additionally, gaps in care and prevention activities are factors that must be addressed to reduce the epidemic's burdensome impact in Tanzania. The prevention and control of HIV/AIDS in Tanzania will continue to depend on the availability of accurate surveillance data and the continuation and expansion of basic care and prevention activities.

B. Eligible Applicants

Assistance will be provided only to the National AIDS Control Program (NACP) of the Tanzania Ministry of Health (MOH). No other applications are solicited.

The NACP is currently the only appropriate and qualified organization to conduct a specific set of activities supportive of the CDC Global AIDS Program's (GAP) technical assistance to Tanzania for the following reasons:

1. The NACP is uniquely positioned, in terms of legal authority, ability, and credibility among Tanzanian citizens, to collect crucial data on HIV/AIDS prevalence and incidence, as well as other health information.

2. The NACP has established mechanisms to access health information, enabling it to immediately become engaged in the activities listed in this announcement.

3. The purpose of the announcement is to build upon the existing framework of health information and activities that the MOH itself has collected or initiated.

4. The Ministry of Health in Tanzania has been mandated by the Tanzanian constitution to coordinate and implement activities necessary for the control of epidemics, including HIV/AIDS and STDs.

C. Availability of Funds

Approximately $1,000,000 is available in FY 2002 to fund this award. It is expected that the award will begin on or about June 1, 2002, and will be made for a 12-month budget period within a project period of 5 years. Approximately $500,000 will be available for years 2-5 of the project. Annual funding estimates may change.

Continuation awards within the approved project period will be made on the basis of satisfactory progress as evidenced by required reports and the availability of funds.

All requests for funds, including the budget contained in the application, shall be stated in U.S. dollars. Once an award is made, the Department of Health and Human Services (DHHS) will not compensate foreign grantees for currency exchange fluctuations through the issuance of supplemental awards.

Use of Funds

Funds received under this announcement may not be used for the direct purchase of anti-retroviral drugs to treat established HIV infection, occupational exposures, and non-occupational exposures and will not be used for the purchase of instruments and reagents to conduct the necessary laboratory monitoring for patient care.

Applicants may contract with other organizations under these cooperative agreements, however, applicants must perform a substantial portion of the activities including program management and operations, and delivery of prevention services for which funds are requested.

The costs that are generally allowable in grants to domestic organizations are likewise allowable to foreign institutions and international organizations, with the following exceptions:

Indirect Costs: With the exception of the American University, Beirut, the Gorgas Memorial Institute, and the World Health Organization, indirect costs will not be paid (either directly or through a sub-award) to organizations, located outside the territorial limits of the United States or to international organizations regardless of their location.

No funds appropriated under this Act shall be used to carry out any program of distributing sterile needles or syringes for the hypodermic injection of any illegal drug.

D. Where To Obtain Additional Information

This and other CDC announcements can be found on the CDC home page Internet address— http://www.cdc.gov. Click on “Funding” then “Grants and Cooperative Agreements.”

To obtain business management technical assistance, contact: Cynthia Collins, Grants Management Specialist, Grants Management Branch, Procurement and Grants Office, Centers for Disease Control and Prevention, 2920 Brandywine Road, Room 3000, Atlanta, GA 30341-4146. Telephone number: 770-488-2757. e-mail: coc9@cdc.gov.

For program technical assistance, contact: Eddas M. Bennett, Deputy Director, CDC Tanzania AIDS Program, National Center for HIV, STD, and TB Prevention, Centers for Disease Control and Prevention (CDC), 140 Msese Road, Dar es Salaam, Tanzania. Telephone: 2 666 010 x4164. e-mail: ebennett@tancdc.co.tz.

Dated: October 9, 2002.
Edward J. Schultz,
Deputy Director, Procurement and Grants Office, Centers for Disease Control and Prevention.

[FR Doc. 02-26536 Filed 10-17-02; 8:45 am]

BILLING CODE 4163-18-P